DEPARTMENT OF AGRICULTURE

Forest Service

Scott Peak Project Area Environmental Impact Statement

AGENCY: Forest Service, USDA.

ACTION: Notice of intent to prepare an environmental impact statement.

SUMMARY: The Department of Agriculture, Forest Service, will prepare an Environmental Impact Statement (EIS) on a proposal to harvest timber, to enhance recreational opportunities, to perform watershed restoration work, and to develop a road management plan for the Scott Peak Project Area on northeastern Kupreanof Island, on the Petersburg Ranger District, Tongass National Forest. The proposed action for timber harvest provides for multiple timber sale opportunities resulting in the production of approximately 16 million board feet (mmbf) of timber from approximately 680 acres of forested land. Since this project is within the Mitkof/Kupreanof Biogeographic province, all timber harvest silvicultural prescriptions will meet marten standards and guidelines as described in the Tongass Land and Resource Management Plan (Forest Plan). Approximately 3 miles of temporary road would be necessary for timber harvest; no classified road would be constructed. A range of alternatives responsive to significant issues is being developed and will include a no-action alternative. Currently the preliminary action alternatives propose timber harvest ranging from 3mmbf to 16 mmbf, with 0 to 3 miles of temporary road construction. The Record of Decision will disclose whether and where the Forest Supervisor has decided to provide timber harvest units, roads, associated timber harvesting facilities, dispersed recreation sites, and watershed improvements.

DATES: A public mailing that outlines the project timeline and public involvement opportunities is planned for distribution in Fall 2002. Individuals who want to receive this malign should contact us within 30 days of the publication of this NOI. To be most useful, comments concerning the scope of this project should be received by December 23, 2002. The draft Environmental Impact Statement is projected to be filed with the Environmental Protection Agency (EPA) in the winter of 2003 and will begin a 45-day public comment period. The Final Environmental Impact Statement and Record of Decision are anticipated to be published in the summer of 2003.

ADDRESSES: Please send written comments to the Petersburg Ranger District, Tongass National Forest, Attn: Scott Peak Project Area EIS, PO Box 1328, Petersburg, AK 99833. The FAX number is (907) 772-3871 or Cynthia Sever, Interdisciplinary Team Leader, Petersburg Ranger District, PO Box 1328, Petersburg, AK 99833; telephone (907) 772-3871.

SUPPLEMENTARY INFORMATION: Background: The 24,110 acre Scott Peak Project Area is located within value Comparison Unit 444 on Kuprean of Island, Alaska on the Petersburg Ranger District of the Tongass National Forest, Portions of two Inventoried Roadless Areas, Missionary #212 and Five Mile #213, as identified by the Forest plan, are located within the project area. None of the proposed timber wharves units or temporary roads are within these or any other roadless area as defined by the U.S. District Court (District of Alaska in Sierra Club v. Rey (J00-0009 CV (JKS)). The project area includes one small old-growth habitat reserve as designated in the Forest Plan. A Forest plan amendment would be required if a decision is made to modify the old-growth habitat reserve boundary associated with this project.

The purpose and need for the Scott Peak Project is: (1) To implement the direction contained in the 1997 Tongass Land Management Plan and the 1997 ROD, including goals, objectives, management prescriptions, and standards and guidelines; (2) to maintain wood production from suitable timber lands, providing a continuous supply of wood to meet society's needs; (3) to help provide a stable supply of timber from the Tongass National Forest which meets existing and potential market demand and is consistent with sound multiple use and sustained yield objectives; and (4) to help meet the desired future condition of the landscape as described by the 1997 Tongass Land and Resource Management Plan.

Public Participation: Public participation has been an integral component of the study process and will continue to be especially important at several points during the analysis. The Forest Service will be seeking information, comments, and assistance from Tribal Governments, Federal, State, and local agencies, individuals and organizations that may be interested in, or affected by, the proposed activities. Written scoping comments have been solicited through an informal scoping package that was sent to the project mailing list and was available at open houses in Petersburg, AK and Kate, AK. The scoping process includes: (1) Identification of potential issues; (2) identification of issues to be analyzed in depth; and, (3) elimination of insignificant issues or those which have been covered by a previous environmental review. Tentative issues identified for analysis in the EIS include the potential effects of the project on, and the relationship of the project to, the old-growth habitat reserve system and timber sale economics.

Based on results of scoping and the resource capabilities within the project area, alternatives including a “no-action” alternative will be developed for the Draft Environmental Impact Statement. Subsistence hearings, as provided for in Title VIII, Section 810 of the Alaska National Interest Lands Conservation Act (ANILCA), will be provided, if necessary, during the comment period on the Draft Environmental Impact Statement.

The Forest Service believes, at this early stage, it is important to give reviewers notice of several court rulings related to public participation in the environmental review process. First, reviewers of Draft Environmental Impact Statements must structure their participation in the environmental review of the proposal so that it is meaningful and alerts an agency to the reviewer's position and contentions. Vermont Yankee Nuclear Power Corp. v. NRDC, 435 U.S. 519, 553, (1978). Environmental objections that could have been raised at the Draft Environmental Impact Statement stage may be waived or dismissed by the courts. City of Angoon v. Hodel, 803 F. 2nd 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the Final Environmental Impact Statement.

To assist the Forest Service in identifying and considering issues and concerns of the proposed action, comments during scoping and comments on the Draft Environmental Impact Statement should be as specific as possible. It is also helpful if comments refer to specific pages or chapters of the Draft Environmental Impact Statement. Comments may also address the adequacy of the Draft Environmental Impact Statement or the merits of the alternatives formulated and discussed in the statement. Reviewers may wish to refer to the Council on Environmental Quality Regulations for implementing the procedural provisions of the National Environmental Policy Act at 40 CFR 1503.3 in addressing these points. Comments received in response to this solicitation, including names and address of those who comment, will be considered part of the public record on this proposed action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Requesters should be aware that, under FOIA, confidentiality may be granted in only very limited circumstances, such as to protect trade secrets. The Forest Service will inform the requester of the agency's decision regarding the request for confidentiality, and where the request is denied, the agency will return the submission and notify the requester that the comments may be resubmitted with or without name and address within 7 days.

Permits: Permits required for implementation include the following:

1. U.S. Army Corps of Engineers

—Approval of discharge of dredged or fill material into the water of the United States under Section 404 of the Clean Water Act;

—Approval of the construction of structures or work in navigable waters of the United States under Section 10 of the Rivers and Harbors Act of 1899;

2. Environmental Protection Agency

—National Pollutant Discharge Elimination System (402) Permit;

—Review Spill Prevention Control and Countermeasure Plan;

3. State of Alaska, Department of Natural Resources

—Tideland Permit and Lease or Easement;

4. State of Alaska, Department of Environmental Conservation

—Solid Waste Disposal Permit;

—Certification of Compliance with Alaska Water Quality Standards (401 Certification) Chapter 20.

Responsible Official: Thomas Puchlerz, Forest Supervisor, Tongass National Forest, Federal Building, Ketchikan, AL 99901, is the responsible official. The responsible official will consider the comments, responses, disclosure of environmental consequences, and applicable laws, regulations, and policies in making the decision and state the rationale in the Record of Decision.

(Authority: 40 CFR 1501.7 and 1508.22; Forest Service Handbook 1909.15, Section 21).

Dated: November 19, 2002.
Thomas Puchlerz,
Forest Supervisor.

[FR Doc. 02-30169 Filed 11-27-02; 8:45 am]

BILLING CODE 3410-11-M